ENVIRONMENTAL PROTECTION AGENCY

[FRL-6939-7]

Agency Information Collection Activities: Proposed Collection; Comment Request; Reporting Requirements Under EPA's National Wastewater Operator Training and Technical Assistance Program

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): National Wastewater Operator Training and Technical Assistance Program, EPA ICR Number 1977.01, and OMB Control Number to be assigned. Before submitting the ICR to OMB for review and approval, EPA is soliciting comments on specific aspects of the proposed information collection as described below.

DATES: Comments must be submitted on or before April 2, 2001.

ADDRESSES: Environmental Protection Agency, Office of Wastewater Management, National Wastewater Operator Training and Technical Assistance Program—104(g)(1) ICR Docket, Municipal Assistance Branch (Mail Code 4204-M), 1200 Pennsylvania Avenue, NW, Washington, DC 20460. Interested persons may obtain a copy of the ICR and supporting analysis without charge by contacting the individual listed below.

FOR FURTHER INFORMATION CONTACT: Curt Baranowski, Telephone: 202-564-0636. Facsimile Number: (202) 501-2396. E-mail: baranowski.curt@epa.gov.

SUPPLEMENTARY INFORMATION: Affected entities: Entities potentially affected by this action are state and local governments, state and county colleges, and those organizations which provide training assistance through the Clean Water Act 104(g)(1) Program to municipal wastewater treatment plants. Title: National Wastewater Operator Training and Technical Assistance Program. (OMB Control No. to be assigned. EPA ICR No.: 1977.01.

Comments

Comments should be submitted to the National Wastewater Operator Training and Technical Assistance Program ICR Comment Clerk, Mail Code 4204-M, Environmental Protection Agency, Office of Wastewater Management, 1200 Pennsylvania Avenue, NW, Washington, DC 20460. Those who comment and want EPA to acknowledge receipt of their comments should enclose a self addressed stamped envelope. Comments may also be submitted electronically to baranowski.curt@epa.gov. Electronic comments should be submitted as an ASCII file avoiding the use of special characters and forms of encryption, and be identified by the use of words “OTP ICR Comments”. No confidential business information (CBI) should be submitted through e-mail. Comments and data will also be accepted on disk in Corel WordPerfect 8 format or ASCII file format. Electronic comments on this notice may be filed online at many Federal Depository Libraries.

The record for this proposed ICR renewal has been established in the Office of Wastewater Management, Municipal Assistance Branch and includes supporting documentation as well as printed, paper versions of electronic comments. It does not include any information claimed as CBI. The record is available for inspection from 9 am to 4 pm, Monday through Friday, excluding legal holidays, at the United States Environmental Protection Agency, Municipal Assistance Branch, 7th Floor, ICC Building, 1201 Constitution Avenue, NW, Washington, DC 20004. For access to the docket materials, please call (202) 564-0753 to schedule an appointment.

Abstract

The Wastewater Operator Training Program provides on-site technical assistance to municipal wastewater treatment plants. Information will be collected from the network of forty-eight 104(g)(1) training centers set up through out the United States. The information will be collected to identify the facilities assisted, the different types of assistance the program provides and the environmental outcomes and benefits of the assistance provided by the program. The information will be collected and submitted on either an annual or semi-annual basis. A Microsoft Access and a Lotus 1-2-3 database have been developed for this purpose. This ICR will be used by EPA for the technical and financial management of the 104(g)(1) Program. It is strongly suggested that the 104(g)(1) Program training centers participate in the information collection although it is not mandatory. All information in the data system will be made public upon request. An agency may not conduct or sponsor, and a person is not required to respond to, a collection of information unless it displays a currently valid OMB control number. The OMB control numbers are listed in the Code of Federal Regulations Title 40 part 9 and in the Code of Federal Regulations Title 48 Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement

The projected combined annual burden hours of this ICR to all respondents will be approximately 512 hours. The average annual burden hours to each 104(g)(1) training center grantee will be 7 hours, for a total of 336 hours per year. The average annual burden hours to the EPA's Regional Offices and Headquarters will be 16 hours each, for a total of 176 burden hours per year.

Data will be collected on an annual basis, in May of each year, for the Microsoft Access database collection, and data for the Lotus 1-2-3 spreadsheet information collection will be done on a bi-annual basis, in May and November of each year. Although this information collection is not mandatory, it is expected that 100% of the 104(g) training centers will respond to this collection request. All forty-eight (48) training centers and EPA have the necessary equipment, desk-top computers and Microsoft Access, to collect and manage this information. There will be no additional start-up or maintenance costs associate with this project to perform this information collection request. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: January 24, 2001.
Michael B. Cook,
Director, Office of Wastewater Management.

[FR Doc. 01-2566 Filed 1-29-01; 8:45 am]

BILLING CODE 6560-50-U